DEPARTMENT OF THE INTERIOR

Fish and Wildlife Service

[FWS-R8-R-2013-N118; FXRS12650800000-134-FF08R00000]

Hopper Mountain, Bitter Creek, and Blue Ridge National Wildlife Refuges, Ventura, Kern, San Luis Obispo, and Tulare Counties, CA

AGENCY: Fish and Wildlife Service, Interior.

ACTION: Notice of availability.

SUMMARY: We, the U.S. Fish and Wildlife Service (Service) announce the availability of a Final Comprehensive Conservation Plan and Environmental Assessment (CCP/EA), and Finding of No Significant Impact (FONSI) for the Hopper Mountain, Bitter Creek, and Blue Ridge National Wildlife Refuges (Refuges or NWRs). The CCP/EA, prepared under the National Wildlife Refuge System Improvement Act of 1997, and in accordance with the National Environmental Policy Act of 1969, describes how the Service will manage the three refuges for the next 15 years.

DATES: The CCP and FONSI are available now. The FONSI was signed on September 30, 2013. Implementation of the CCP may begin immediately.

ADDRESSES: You may view or obtain copies of the Final CCP and FONSI by any of the following methods. You may request a CD-ROM copy. A limited number of paper copies are available.

Agency Web site: Download a copy of the document(s) at http://www.fws.gov/hoppermountain/.

Email: fw8plancomments@fws.gov. Include “Hopper CCP” in the subject line of the message.

Fax: Attn: Refuge Planning, (916) 414-6497.

U.S. Mail: Pacific Southwest Region, Refuge Planning, U.S. Fish and Wildlife Service, 2800 Cottage Way, W-1832, Sacramento, CA 95825-1846.

In-Person Viewing or Pickup: Copies of the Final CCP/EA and FONSI may also be viewed during regular business hours at the above address.

FOR FURTHER INFORMATION CONTACT: Sandy Osborn, Planning Team Leader, at (916) 414-6503, or Michael Brady, Project Leader, at (805) 644-5185 or fw8plancomments@fws.gov. Further information may also be found at http://www.fws.gov/hoppermountain/.

SUPPLEMENTARY INFORMATION:

Background

Hopper Mountain NWR was established in 1974 and includes 2,471 contiguous acres in Ventura County, California. Bitter Creek NWR was established in 1985 and includes 14,097 acres, primarily in Kern County and extending into San Luis Obispo and Ventura Counties. Blue Ridge NWR was established in 1982 and includes 897 acres in Tulare County in the foothills of the Sierra Nevada Mountains. These three refuges in the Hopper Mountain NWR Complex (Complex) in southern California were created under the authority of the Federal Endangered Species Act of 1973, as amended (16 U.S.C. 1531 et seq.), primarily to restore the endangered California condor population to its native range. Through this CCP process, we determined that areas of Bitter Creek NWR and Blue Ridge NWR can provide opportunities for public and Service-guided wildlife-dependent recreational opportunities.

We announce our decision and the availability of the FONSI for the Final CCP for Hopper Mountain, Bitter Creek, and Blue Ridge National Wildlife Refuges in accordance with National Environmental Policy Act (NEPA) (40 CFR 1506.6(b)) requirements. We completed a thorough analysis of impacts on the human environment, which we included in the environmental assessment (EA) that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We intend to review and update the CCP at least every 15 years in accordance with the Administration Act.

Our Draft CCP/EA was available for a 60-day public review and comment period, which we announced via several methods, including press releases, updates to constituents, and a Federal Register notice (77 FR 2012, April 11, 2012). The Draft CCP/EA identified and evaluated three alternatives for managing the Refuges for the next 15 years.

Alternatives Considered

Alternative A for All Three Refuges (No Action Alternative)

Under Alternative A (no action alternative) for each of the three refuges, the Service would continue to manage the Refuges as we have in the recent past. There would be continued maintenance of facilities and support of the California Condor Recovery Program activities. The three Refuges would remain closed to public use.

Alternatives B and C for Hopper Mountain NWR

Under Alternative B (selected alternative), the Service would increase condor management and support actions; collect baseline data for Refuge resources with emphasis on special status species; improve management of all habitat types on the Refuge; and increase outreach and Service-guided visitor and volunteer opportunities. The Refuge would remain closed to public use.

Under Alternative C for Hopper Mountain NWR, the Service would increase some condor management and support actions, expand baseline data collection, manage invasive plants without using pesticides, increase habitat protection and enhancement of select black walnut and oak woodlands and increase some visitor services. The Refuge would remain closed to public use.

Alternatives B and C for Bitter Creek NWR

Under Alternative B (selected alternative), the Service would increase condor management and support actions, install a 1,000-square-foot condor treatment facility, and collect baseline data on Refuge resources with emphasis on special status species. The Service would also use grazing and other methods to improve habitat quality to support special status San Joaquin Valley species, and restore some springs and drainages. We would also expand visitor services by opening a new interpretive trail, and developing a new Refuge administrative office with visitor area, and condor observation point.

Under Alternative C for Bitter Creek NWR, the Service would improve and expand current management by increasing some condor management and support actions; restore more habitat to support special status species; manage invasive plants without using pesticides; restore more springs and drainages; and expand outreach, interpretation, and visitor and volunteer opportunities.

Alternatives B and C for Blue Ridge NWR

Under Alternative B (selected alternative), the Service would improve current management by increasing condor management activities, collecting baseline data for special status species, and adding volunteer opportunities. Portions of the Refuge would be opened to public use.

Under Alternative C for Blue Ridge NWR, the Service would increase some condor management actions, but to a lesser extent than Alternative B, and work with partners to increase some guided visitor and volunteer opportunities. The Refuge would remain closed to public use.

Selected Alternative for All Three Refuges

During the review and comment period, we received 25 letters on the Draft CCP/EA containing over 750 comments. Comments focused on habitat management (including grazing, fire management, and protection of special status plants) and visitor services (wildlife-dependent recreation). We incorporated comments we received into the CCP when appropriate and we responded to the comments in an appendix to the CCP. In the FONSI, we selected Alternative B for implementation for all three Refuges. The FONSI documents our decision and is based on the information and analysis contained in the EA.

Under the selected alternative, the Service will expand both natural resource management and visitor services opportunities on the Refuges. Additional biological activities would include baseline surveys on native flora and fauna. Other habitat management activities would include development of a comprehensive integrated pest management plan and addressing the effects of climate change on Refuge resources.

Visitor services, specifically interpretation and environmental education opportunities, would be expanded at all three refuges. Additional volunteer opportunities would be offered at Hopper Mountain and Bitter Creek NWRs. A new Refuge administrative office with visitor area, and a condor observation area would be constructed at Bitter Creek NWR.

The selected alternative best meets the Refuges' purposes, vision, and goals; contributes to the Refuge System mission; addresses the significant issues and relevant mandates; and is consistent with principles of sound fish and wildlife management. Implementation of the selected alternative will be subject to the availability of funding and other resources, and may occur incrementally over the life of the 15-year plan. Based on the associated environmental assessment, this alternative is not expected to result in significant environmental impacts and therefore does not require an environmental impact statement.

Alexandra Pitts,
Acting Regional Director, Pacific Southwest Region, Sacramento, California.

[FR Doc. 2014-00367 Filed 1-10-14; 8:45 am]

BILLING CODE 4310-55-P